UNIFORMED SERVICES UNIVERSITY OF THE HEALTH SCIENCES

Sunshine Act Meeting

AGENCY HOLDING THE MEETING: Uniformed Services University of the Health Sciences

TIME AND DATE: 8 a.m. to 4 p.m., May 18, 2001

PLACE: Uniformed Services University of the Health Sciences, Board of Regents Conference Room (D3001), 4301 Jones Bridge Road, Bethesda, MD 20814-4799

STATUS: Open—under “Government in the Sunshine Act” (5 U.S.C. 552b(e)(3))

MATTERS TO BE CONSIDERED:

8:30 a.m. Meeting—Board of Regents

(1) Approval of Minutes—February 6, 2001

(2) Faculty Matters

(3) Departmental Reports

(4) Financial Report

(5) Report—President, USUHS

(6) Report—Dean, School of Medicine

(7) Report—Dean, Graduate School of Nursing

(8) Comments—Chairman, Board of Regents

(9) New Business

CONTACT PERSON FOR MORE INFORMATION: Mr. Bobby D. Anderson, Executive Secretary, Board of Regents, (301) 295-3116.

Dated: April 16, 2001.
Linda Bynum,
OSD Federal Register Liaison Officer, Department of Defense.

[FR Doc. 01-9826 Filed 4-17-01; 10:33 am]

BILLING CODE 5001-10-M